DEPARTMENT OF TRANSPORTATION

Federal Aviation Administration

Thirty Seventh RTCA SC-216 Aeronautical Systems Security Plenary

AGENCY: Federal Aviation Administration, U.S. Department of Transportation.

ACTION: Thirty Seventh RTCA SC-216 Aeronautical Systems Security Plenary.

SUMMARY: The FAA is issuing this notice to advise the public of a meeting of Thirty Seventh RTCA SC-216 Plenary. This is a subcommittee to RTCA.

DATES: This meeting will be held December 11-15, 2017 09:00 a.m.-5:00 p.m.

ADDRESSES: The meeting will be held at: Embraer Engineering and Technology Center, 1400 General Aviation Drive, Melbourne, Florida 32935. Pre-registration is required.

FOR FURTHER INFORMATION CONTACT: Karan Hofmann at khofmann@rtca.org or 202-330-0680, or The RTCA Secretariat, 1150 18th Street NW., Suite 910, Washington, DC, 20036, or by telephone at (202) 833-9339, fax at (202) 833-9434, or Web site at http://www.rtca.org. Registration is required and seating is limited.

SUPPLEMENTARY INFORMATION: Pursuant to section 10(a) (2) of the Federal Advisory Committee Act (Pub. L. 92-463, 5 U.S.C., App.), notice is hereby given for a meeting of the Thirty Seventh RTCA SC-216 Plenary. The agenda will include the following:

Monday, December 11, 2017—9:00 a.m.-5:00 p.m.

1. Welcome and Administrative Remarks

2. Introductions

3. Agenda Review

4. Meeting-Minutes Review

5. Review Joint Action List

6. Continuation of Plenary or Working Group Sessions

Tuesday, December 12, 2017—9:00 a.m.-5:00 p.m.

Continuation of Plenary or Working Group Sessions

Wednesday, December 13, 2017—9:00 a.m.-5:00 p.m.

Continuation of Plenary or Working Group Sessions

Thursday, December 14, 2017—9:00 a.m.-5:00 p.m.

Review DO-356A/ED-203A for Final Review and Comment(FRAC)/Open Consultation

Friday, December 15, 2017—9:00 a.m.-12:00 p.m.

1. Schedule Update

2. Decision to approve release of DO-356A/ED-203A for final review and comment (frac)/Open consulation

3. Date, Place and Time of Next Meeting

4. New Business

5. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 16, 2017.
Mohannad Dawoud,
Management & Program Analyst, Partnership Contracts Branch, ANG-A17, NextGen, Procurement Services Division, Federal Aviation Administration.

[FR Doc. 2017-22669 Filed 10-18-17; 8:45 am]

BILLING CODE 4910-13-P